DEPARTMENT OF HEALTH AND HUMAN SERVICES

Centers for Disease Control and Prevention

Advisory Board on Radiation and Worker Health (ABRWH), National Institute for Occupational Safety and Health (NIOSH)

AGENCY: Centers for Disease Control and Prevention (CDC), Department of Health and Human Services (HHS).

ACTION: Notice of meeting and request for comment.

SUMMARY: The CDC announces the following meeting of the Advisory Board on Radiation and Worker Health (ABRWH or the Advisory Board). This is a hybrid meeting, accessible both in person and virtually. It is open to the public, limited only by the space available and the number of audio conference lines and internet conference accesses. Time will be available for public comment. The public is also welcomed to submit written comments in advance of the meeting, to the contact person listed in the addresses section below. Written comments received in advance of the meeting will be included in the official record of the meeting. The public is also welcomed to listen to the meeting by joining the audio conference (information below). The combined number of audio conference lines and internet conference accesses is 200.

DATES: The meeting will be held on August 16, 2023, from 8:15 a.m. to 6:00 p.m., EDT. A public comment session will be held at 5:00 p.m., EDT, and will conclude at 6:00 p.m., EDT, or following the final call for public comment, whichever comes first. Written comments must be received on or before August 9, 2023.

ADDRESSES: DoubleTree by Hilton Augusta, 2651 Perimeter Parkway, Augusta, GA 30909; Telephone: (706) 855-8100. The conference room will have seating for approximately 125 people.

Meeting Information: The USA toll-free dial-in numbers are: +1 669 254 5252 US (San Jose); and +1 646 828 7666 US (New York). The meeting ID is: 160 6763 3819; the Passcode is: 98685439; and the Web conference by Zoom meeting connection is: https://cdc.zoomgov.com/j/16067633819?pwd=RUdiYXlZZHFKanpJOHZrcGJIbTlaZz09.

You may submit comments by mail to: Rashaun Roberts, National Institute for Occupational Safety and Health (NIOSH), CDC, 1090 Tusculum Avenue, Mailstop C-24, Cincinnati, Ohio 45226. Written comments received in advance of the meeting will be included in the official record of the meeting.

FOR FURTHER INFORMATION CONTACT: Rashaun Roberts, Ph.D., Designated Federal Official, NIOSH, CDC, 1090 Tusculum Avenue, Mailstop C-24, Cincinnati, Ohio 45226; Telephone: (513) 533-6800; Email: ocas@cdc.gov.

SUPPLEMENTARY INFORMATION:

Background: The Advisory Board was established under the Energy Employees Occupational Illness Compensation Program Act of 2000 to advise the President on a variety of policy and technical functions required to implement and effectively manage the new compensation program. Key functions of the Advisory Board include providing advice on the development of probability of causation guidelines, which have been promulgated by the HHS as a final rule; advice on methods of dose reconstruction, which have also been promulgated by HHS as a final rule; advice on the scientific validity and quality of dose estimation and reconstruction efforts being performed for purposes of the compensation program; and advice on petitions to add classes of workers to the Special Exposure Cohort (SEC). In December 2000, the President delegated responsibility for funding, staffing, and operating the Advisory Board to HHS, which subsequently delegated this authority to the CDC. NIOSH implements this responsibility for CDC.

The Advisory Board's charter was issued on August 3, 2001, was renewed at appropriate intervals, was rechartered under Executive Order 13889 on March 22, 2022, and will terminate on March 22, 2024.

Purpose: This Advisory Board is charged with a) providing advice to the Secretary, HHS, on the development of guidelines under Executive Order 13179; b) providing advice to the Secretary, HHS, on the scientific validity and quality of dose reconstruction efforts performed for this program; and c) upon request by the Secretary, HHS, advising the Secretary on whether there is a class of employees at any Department of Energy facility who were exposed to radiation but for whom it is not feasible to estimate their radiation dose, and on whether there is reasonable likelihood that such radiation doses may have endangered the health of members of this class.

Matters to be Considered: The agenda will include discussions on the following: NIOSH Program Update; Department of Labor Program Update; Department of Energy Program Update; SEC Petitions Update; Interactive RadioEpidemiological Program (IREP) Update; Procedures Review Finalization/Document Approvals; Savannah River Site Workgroup Update; Metals & Control (M&C) Workgroup Updates, and a Board Work Session. Agenda items are subject to change as priorities dictate.

For additional information, please contact Toll Free 1-800-232-4636.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Authority: 5 U.S.C. 1001 et. seq.

Kalwant Smagh,
Director, Strategic Business Initiatives Unit, Office of the Chief Operating Officer, Centers for Disease Control and Prevention.

[FR Doc. 2023-14137 Filed 7-3-23; 8:45 am]

BILLING CODE 4163-18-P